DEPARTMENT OF STATE

[Public Notice 5591]

Industry Advisory Panel: Notice of Open Meeting

The Industry Advisory Panel of the Overseas Buildings Operations will meet on Thursday, December 7, 2006 from 9:30 a.m. until 3:30 p.m. Eastern Standard Time. The meeting will be held at the Department of State, 2201 C Street, NW. (entrance on 23rd Street), Room 1107—Washington, DC. The majority of the meeting will be devoted to an exchange of ideas between the Department's Bureau of Overseas Buildings Operations' senior management and panel members, on design, operations and building maintenance. Entry to the building is controlled; to obtain pre-clearance for entry, members of the public planning to attend should provide, by December 1, 2006, their name, professional affiliation, valid government-issued ID number (i.e. U.S. government ID, U.S. military ID, passport), or drivers license, date of birth, and citizenship to by e-mailing: iapr@state.gov (only one person per company may register).

If you have any questions, please contact Andrea Specht on (703) 516-1544. Please arrive no later than 9 a.m. (The Security check-in desk opens at 8:30 a.m.)

Dated: November 7, 2006.
Charles E. Williams,
Director & Chief Operating Officer, Overseas Buildings Operations, Department of State.

[FR Doc. E6-19250 Filed 11-14-06; 8:45 am]

BILLING CODE 4710-24-P